DEPARTMENT OF HEALTH AND HUMAN SERVICES

Substance Abuse and Mental Health Services Administration

Center for Mental Health Services (CMHS); Amendment of Meeting

Pursuant to Public Law 92-463, notice is hereby given of an amendment of meeting agenda, date change, and participant link change for the Substance Abuse and Mental Health Services Administration's (SAMHSA), Center for Mental Health Services National Advisory Council (CMHS NAC).

Public notice was published in the Federal Register on August 3, 2012, Volume 77, Number 150, page 46444 announcing that the CMHS National Advisory Council would be convening on August 24, 2012 at 1 Choke Cherry Road, Rockville, MD. The discussion and evaluation of grant applications will be added to the agenda. Therefore, a portion of the meeting will be closed to the public as determined by the SAMHSA Administrator, in accordance with Title 5 U.S.C. 552b(c)(6) and 5 U.S.C. App. 2, § 10(d). Participants can join the event directly at https://www.mymeetings.com/ss/r.php?c=9819021&h=e&i=1231115900816436. For additional information, contact the CMHS National Advisory Council, Acting Designated Federal Official, Crystal C. Saunders, 1 Choke Cherry Road, Room 6-1063, Rockville, MD 20857, telephone number 240-276-1117, fax number 240-276-1395 and email crystal.saunders@samhsa.hhs.gov.

This notice is being published less than 15 days prior to the meeting due to the timing limitations imposed by the review and funding cycle.

Summer King,
Statistician.

[FR Doc. 2012-20466 Filed 8-20-12; 8:45 am]

BILLING CODE 4162-20-P